DEPARTMENT OF COMMERCE

International Trade Administration

[A-580-809]

Circular Welded Non-Alloy Steel Pipe From the Republic of Korea: Final Results of Antidumping Duty Administrative Review; 2016-2017

AGENCY: Enforcement and Compliance, International Trade Administration, Department of Commerce.

SUMMARY: The Department of Commerce (Commerce) determines that Husteel Co., Ltd. (Husteel) and Hyundai Steel Company (Hyundai), producers/exporters of circular welded non-alloy steel pipe (CWP) from the Republic of Korea (Korea), sold subject merchandise in the United States at prices below normal value (NV) during the period of review (POR) November 1, 2016, through October 31, 2017.

DATES: Applicable June 6, 2019.

FOR FURTHER INFORMATION CONTACT: Dana Mermelstein and Nicholas Czajkowski, AD/CVD Operations, Office I, Enforcement and Compliance, International Trade Administration, U.S. Department of Commerce, 1401 Constitution Avenue NW, Washington, DC 20230; telephone (202) 482-1391 and (202) 482-1395, respectively.

SUPPLEMENTARY INFORMATION:

Background

On December 3, 2018, Commerce published the Preliminary Results of the administrative review.¹ We invited interested parties to comment on the Preliminary Results and received case and rebuttal briefs from interested parties.² At the request of Husteel and Hyundai, Commerce held a public hearing on the Preliminary Results on February 26, 2019.³

¹ See Circular Welded Non-Alloy Steel Pipe from the Republic of Korea: Preliminary Results of Antidumping Duty Administrative Review; 2016-2017, 83 FR 63619 (December 11, 2018) (Preliminary Results).

² See Letter from Husteel, “Certain Circular Welded Non-Alloy Steel Pipe from the Republic of Korea, 11/1/2016-12/31/2017 Administrative Review, Case No. A-580-809: Case Brief,” dated February 19, 2019; Letter from Hyundai, “Circular Welded Non-Alloy Steel Pipe from the Republic of Korea: Case Brief,” dated February 19, 2019; Letter from SeAH, “Administrative Review of the Antidumping Order on Circular Welded Non-Alloy Steel Pipe from Korea—Case Brief of SeAH Steel Corporation,” dated February 19, 2019; Letter from Wheatland Tube, “Circular Welded Non-Alloy Steel Pipe From the Republic of Korea: Rebuttal Brief of Wheatland Tube Company,” dated February 25, 2019.

³ See Letter from Commerce, “Administrative Review of Circular Welded Non-Alloy Steel Pipe from the Republic of Korea: Hearing Schedule,” dated February 22, 2019, regarding hearing schedule; see also Hearing Transcript, dated March 19, 2019.

Commerce exercised its discretion to toll all deadlines affected by the partial federal government closure from December 22, 2018, through the resumption of operations on January 29, 2019.⁴ On May 13, 2019, we extended the deadline for the final results.⁵ The revised deadline for the final results is now May 30, 2019.

⁴ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding affected by the partial federal government closure have been extended by 40 days.

⁵ See Memorandum, “Antidumping Duty Administrative Review of Circular Welded Non-Alloy Steel Pipe from the Republic of Korea: Extension of Deadline for Final Results of 2016-2017 Antidumping Duty Administrative Review,” dated May 13, 2019.

These final results cover 25 companies. Based on an analysis of the comments received, we have made changes to the weighted-average dumping margins determined for the respondents. The weighted-average dumping margins are listed in the “Final Results of Review” section, below. Commerce conducted this review in accordance with section 751 of the Tariff Act of 1930, as amended (the Act).

Scope of the Order

The merchandise subject to the order is circular welded non-alloy steel pipe and tube. Imports of the product are currently classifiable in the Harmonized Tariff Schedule of the United States (HTSUS) under subheadings 7306.30.1000, 7306.30.5025, 7306.30.5032, 7306.30.5040, 7306.30.5055, 7306.30.5085, and 7306.30.5090. While the HTSUS subheadings are provided for convenience and customs purposes, the written description is dispositive. A full description of the scope of the order is contained in the Issues and Decision Memorandum.⁶

⁶ See Memorandum, “Issues and Decision Memorandum for the Final Results of the 2016-2017 Administrative Review of the Antidumping Order on Circular Welded Non-Alloy Steel Pipe from the Republic of Korea,” dated concurrently with and hereby adopted by this notice (Issues and Decision Memorandum).

Analysis of Comments Received

All issues raised in the case and rebuttal briefs filed by parties in this review are addressed in the Issues and Decision Memorandum, which is hereby adopted by this notice. The issues are identified at the Appendix to this notice. The Issues and Decision Memorandum is a public document and is on file electronically via Enforcement and Compliance's Antidumping and Countervailing Duty Centralized Electronic Service System (ACCESS). ACCESS is available to registered users at https://access.trade.gov and is available to all parties in the Central Records Unit, Room B8024 of the main Commerce building. In addition, a complete version of the Issues and Decision Memorandum can be accessed directly on the internet at http://enforcement.trade.gov/frn/index.html. The signed Issues and Decision Memorandum and the electronic version of the Issues and Decision Memorandum are identical in content.

Changes Since the Preliminary Results

Based on our analysis of comments received, we made certain changes to the margin calculations for Husteel and Hyundai. For a discussion of these changes, see the “Margin Calculations” section of the Issues and Decision Memorandum.

Rate for Non-Examined Companies

The statute and Commerce's regulations do not address the establishment of a rate to be applied to companies not selected for examination when Commerce limits its examination in an administrative review pursuant to section 777A(c)(2) of the Act. Generally, Commerce looks to section 735(c)(5) of the Act, which provides instructions for calculating the all-others rate in a market economy investigation, for guidance when calculating the rate for companies which were not selected for individual review in an administrative review. Under section 735(c)(5)(A) of the Act, the all-others rate is normally “an amount equal to the weighted average of the estimated weighted average dumping margins established for exporters and producers individually investigated, excluding any zero or de minimis margins, and any margins determined entirely {on the basis of facts available}.”

For these final results, we calculated a weighted-average dumping margin that is not zero, de minimis, or determined entirely on the basis of facts available for Husteel and Hyundai. Accordingly, Commerce has assigned to the companies not individually examined the average of Husteel and Hyundai's calculated weighted-average dumping margins for these final results.⁷

⁷ See Memorandum, “Circular Welded Non-Alloy Steel Pipe from the Republic of Korea: Calculation of the Final Margin for Respondents Not Selected for Individual Examination,” dated concurrently with and hereby adopted by this notice.

Final Results of the Administrative Review

We determine that the following weighted-average dumping margins exist for the period November 1, 2016, through October 31, 2017.

Producer/exporter | Weighted- average dumping margin (percent)
Aju Besteel | 9.53
Bookook Steel | 9.53
Chang Won Bending | 9.53
Dae Ryung | 9.53
Daewoo Shipbuilding & Marine Engineering (Dsme) | 9.53
Daiduck Piping | 9.53
Dong Yang Steel Pipe | 9.53
Dongbu Steel | 9.53
Eew Korea Company | 9.53
Histeel | 9.53
Husteel | 10.91
Hyundai Rb | 9.53
Hyundai Steel (Pipe Divison) | 9.53
Hyundai Steel Company | 8.14
Kiduck Industries | 9.53
Kum Kang Kind | 9.53
Kumsoo Connecting | 9.53
Miju Steel Mfg | 9.53
Nexteel | 9.53
Samkang M&T | 9.53
Seah Fs | 9.53
Seah Steel | 9.53
Steel Flower | 9.53
Vesta Co., Ltd | 9.53
Ycp Co | 9.53

Disclosure

Commerce intends to disclose the calculations performed for these final results of review within five days of the date of publication of this notice in the Federal Register, in accordance with 19 CFR 351.224(b).

Assessment Rates

Pursuant to section 751(a)(2)(C) of the Act and 19 CFR 351.212(b), Commerce shall determine, and CBP shall assess, antidumping duties on all appropriate entries of subject merchandise in accordance with the final results of this review. Commerce intends to issue assessment instructions to CBP 15 days after the date of publication of the final results of this administrative review in the Federal Register.

Where the respondent reported reliable entered values, we calculated importer- (or customer-) specific ad valorem rates by aggregating the dumping margins calculated for all U.S. sales to each importer (or customer) and dividing this amount by the total entered value of the sales to each importer (or customer).⁸ Where Commerce calculated a weighted-average dumping margin by dividing the total amount of dumping for reviewed sales to that party by the total sales quantity associated with those transactions, Commerce will direct CBP to assess importer- (or customer-) specific assessment rates based on the resulting per-unit rates.⁹ Where an importer- (or customer-) specific ad valorem or per-unit rate is greater than de minimis (i.e., 0.50 percent), Commerce will instruct CBP to collect the appropriate duties at the time of liquidation.¹⁰ Where an importer- (or customer-) specific ad valorem or per-unit rate is zero or de minimis, Commerce will instruct CBP to liquidate appropriate entries without regard to antidumping duties.¹¹

⁸ See 19 CFR 351.212(b)(1).

⁹ Id.

¹⁰ Id.

¹¹ See 19 CFR 351.106(c)(2).

For the companies which were not selected for individual review, we will assign an assessment rate based on the methodology described in the “Rates for Non-Examined Companies” section, above.

Consistent with Commerce's assessment practice, for entries of subject merchandise during the POR produced by Husteel, Hyundai, or the non-examined companies for which the producer did not know that its merchandise was destined for the United States, we will instruct CBP to liquidate unreviewed entries at the all-others rate if there is no rate for the intermediate company(ies) involved in the transaction.¹²

¹² For a full discussion of this practice, see Antidumping and Countervailing Duty Proceedings: Assessment of Antidumping Duties, 68 FR 23954 (May 6, 2003).

Cash Deposit Requirements

The following cash deposit requirements will be effective for all shipments of subject merchandise entered, or withdrawn from warehouse, for consumption on or after the publication date of the final results of this administrative review, as provided for by section 751(a)(2)(C) of the Act: (1) The cash deposit rates for the companies listed in these final results will be equal to the weighted-average dumping margins established in the final results of this review; (2) for merchandise exported by producers or exporters not covered in this review but covered in a prior segment of this proceeding, the cash deposit rate will continue to be the company-specific rate published for the most recently completed segment in which the company was reviewed; (3) if the exporter is not a firm covered in this review or the original less-than-fair-value (LTFV) investigation, but the producer is, the cash deposit rate will be the rate established for the most recently completed segment of this proceeding for the producer of the subject merchandise; and (4) the cash deposit rate for all other producers or exporters will continue to be 4.80 percent,¹³ the all-others rate established in the LTFV investigation. These cash deposit requirements, when imposed, shall remain in effect until further notice.

¹³ See Circular Welded Non-Alloy Steel Pipe From Korea: Notice of Final Court Decision and Amended Final Determination, 60 FR 55833 (November 3, 1995); see also Notice of Antidumping Duty Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992).

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties occurred and the subsequent assessment of double antidumping duties.

Notification to Interested Parties Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials or conversion to judicial protective order is hereby requested. Failure to comply with the regulations and the terms of an APO is a sanctionable violation.

We are issuing and publishing this notice in accordance with sections 751(a)(1) and 777(i)(1) of the Act and 19 CFR 351.213(h).

Dated: May 30, 2019.
Jeffrey I. Kessler,
Assistant Secretary for Enforcement and Compliance.

Appendix

List of Topics Discussed in the Issues and Decision Memorandum

I. Summary

II. Background

III. Scope of the Order

IV. Margin Calculation

V. Rate for Non-Examined Companies

VI. Discussion of the Issues

Comment 1: Particular Market Situation

Comment 2: Differential Pricing

VII. Recommendation

[FR Doc. 2019-11865 Filed 6-5-19; 8:45 am]

BILLING CODE 3510-DS-P